DEPARTMENT OF EDUCATION

Privacy Act of 1974; System of Records—TRIO Programs Annual Performance Report (APR) System (TRIO APR)

AGENCY: Office of Postsecondary Education, Department of Education.

ACTION: Notice of a new system of records.

SUMMARY: In accordance with the Privacy Act of 1974, as amended (Privacy Act), the Department of Education (Department) publishes this notice of a new system of records entitled “TRIO Programs Annual Performance Report (APR) System (TRIO APR)” (18-12-07).

The TRIO APR system collects information on individuals who participate in the Upward Bound, Student Support Services, and Ronald E. McNair Postbaccalaureate Achievement programs authorized under Title IV, Part A, Subpart 2 of the Higher Education Act of 1965, as amended. The Department collects this information to assist in monitoring grantee performance and to determine program outcomes in response to the requirements of the Government Performance and Results Act of 1993 (GPRA) (Pub. L. 103-62) and the Office of Management and Budget (OMB) Program Assessment Rating Tool (PART) process. To determine if the goals of the programs are being met, the academic progress of program participants must be tracked over multiple years. Collecting individual participant data, including the Social Security Number (SSN) for individual participants, is the most reliable method for matching records across years needed to determine program outcomes. Although the collection of the SSN is not required by statute, it serves a distinct business need of the Department. The SSN serves as a unique identifier for matching participant records across years. Although another unique identifier might be used for the APRs, the SSN is needed to match the APR data with other databases, such as the Federal Student Aid Application File (18-11-01) and the Recipient Financial Management System (18-11-02). Matching with these other databases can supplement APR information on participants' postsecondary enrollment and their persistence in and completion of programs of postsecondary education. Most project grantees are institutions of higher education that already collect SSNs for all students applying for Federal financial aid. The Department seeks comment on the new system of records described in this notice, in accordance with the requirements of the Privacy Act.

DATES: We must receive your comments about this new system of records on or before February 23, 2009.

The Department filed a report describing the new system of records covered by this notice with the Chair of the Senate Committee on Homeland Security and Governmental Affairs, the Chair of the House Committee on Oversight and Government Reform, and the Administrator of the Office of Information and Regulatory Affairs, OMB on January 15, 2009. This system of records will become effective at the later date of—(1) The expiration of the 40-day period for OMB review on February 24, 2009; or (2) February 23, 2009, unless the system of records needs to be changed as a result of public comment or OMB review.

ADDRESSES: Address all comments about this new system of records to Frances Bergeron, Team Leader, Program Management and Development, Federal TRIO Programs, Office of Postsecondary Education, U.S. Department of Education, 1990 K Street, NW., room 7059, Washington, DC 20006-8510. If you prefer to send comments through the Internet, use the following address: comments@ed.gov.

You must include the term “TRIO APR” in the subject line of your electronic message.

During and after the comment period, you may inspect all comments about this notice at the U.S. Department of Education in room 7059, 1990 K Street, NW., Washington, DC, between the hours of 8:00 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Frances Bergeron. Telephone number: (202) 502-7528. If you use a telecommunications device for the deaf (TDD), call the Federal Relay Service (FRS), toll free, at 1-800-877-8339.

Individuals with disabilities can obtain this document in an alternative format (e.g., Braille, large print, audiotape, or computer diskette) on request to the contact person listed in this section.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in part 5b of title 34.

The Privacy Act applies to a record about an individual that is maintained in a system of records from which individually identifying information is retrieved by a unique identifier associated with each individual, such as a name or SSN. The information about each individual is called a “record,” and the system, whether manual or computer-based, is called a “system of records.”

The Privacy Act requires each agency to publish a system of records notice in the Federal Register and to submit, whenever the agency publishes a new system of records or makes a significant change to an established system of records, a report to the Administrator of the Office of Information and Regulatory Affairs, OMB. Each agency is also required to send copies of the report to the Chair of the Committee on Oversight and Government Reform of the House of Representatives, and to the Chair of the Committee on Homeland Security and Governmental Affairs of the Senate.

Electronic Access to This Document

You can view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara.

Dated: January 15, 2009.
Vickie L. Schray,
Acting Deputy Assistant Secretary for Higher Education Programs.

For the reasons discussed in the preamble, the Acting Assistant Secretary for Postsecondary Education, U.S. Department of Education publishes a notice of a new system of records, to read as follows:

SYSTEM NUMBER:

18-12-07.

SYSTEM NAME:

TRIO Programs Annual Performance Report (APR) System (TRIO APR).

SECURITY CLASSIFICATION:

None.

SYSTEM LOCATIONS:

(1) Federal TRIO Programs, Office of Postsecondary Education, U.S. Department of Education, 1990 Street, NW., suite 7000, Washington, DC 20006-8510.

(2) Computer Business Methods, Inc. (CBMI), 2750 Prosperity Avenue, suite 100, Fairfax, VA 22031-4312. CBMI annually collects records from grantees, prepares databases of records by program, and transfers the data to the analysis contractor.

(3) National Opinion Research Center (NORC) at the University of Chicago, 1155 East 60th Street, Chicago, IL 60637-2745. NORC maintains the system of records for data analysis.

CATEGORIES OF INDIVIDUALS COVERED BY THE SYSTEM:

The TRIO APR system contains records on participants served by the following Federal TRIO Programs: Upward Bound (which includes regular Upward Bound, Upward Bound Math-Science, and Veterans Upward Bound); Student Support Services; and the Ronald E. McNair Postbaccalaureate Achievement programs. Although the TRIO APR system contains some information about institutions, agencies, and organizations that receive grants under these programs, this system of records notice pertains only to individuals protected under the Privacy Act of 1974, as amended.

CATEGORIES OF RECORDS IN THE SYSTEM:

The TRIO APR system contains records regarding: (1) Participant identifier information including SSN, name, and date of birth; (2) participant eligibility for services and demographic information such as gender, race, ethnicity, and secondary or postsecondary school attended; and (3) academic information such as grade level, grade point average, and high school (postsecondary or graduate school) graduation.

AUTHORITY FOR MAINTENANCE OF THE SYSTEM:

Title IV, Part A, Subpart 2 of the Higher Education Act of 1965, as amended (20 U.S.C. 1070 et seq.) and the Government Performance and Results Act of 1993 (Pub. L. 103-62).

PURPOSE(S):

The information contained in the records maintained in this system is used for the following purposes:

(1) To monitor each funded project's compliance with the program requirements;

(2) To assess the progress of each funded project (grantee) in meeting its goals and objectives and to award “prior experience” points for meeting approved objectives;

(3) To determine program outcomes and areas for program improvement in response to the requirements of the Government Performance and Results Act of 1993 (GPRA) and the OMB's Program Assessment Rating Tool (PART) process; and

(4) To produce program and grantee-level data for annual reporting and program profile reports.

ROUTINE USES OF RECORDS MAINTAINED IN THE SYSTEM, INCLUDING CATEGORIES OF USERS AND THE PURPOSES OF SUCH USES:

The Department may disclose information contained in a record in this system of records without the consent of the individual if the disclosure is compatible with the purposes for which the record was collected. The Department may make these disclosures on a case-by-case basis, or, if the Department has complied with the computer matching requirements of the Computer Matching and Privacy Protection Act of 1988, as amended, under a computer matching agreement.

(1) Program Disclosures. The Department may disclose records to an institution of higher education, agency, or organization responsible for entering the information into the TRIO APR system in order to obtain clarification or additional information about the data submitted.

(2) Contract Disclosure. If the Department contracts with an entity to perform any function that requires disclosing records to the contractor's employees, the Department may disclose the records to those employees. Before entering into such a contract, the Department shall require the contractor to maintain Privacy Act safeguards as required under 5 U.S.C. 552a(m) with respect to the records in the system.

(3) Research Disclosure. The Department may disclose records from this system to a researcher if an appropriate official of the Department determines that the individual or organization to which the disclosure would be made is qualified to carry out specific research related to functions and purposes of this system of records. The official may disclose information from this system of records to that researcher solely for the purpose of carrying out research related to the functions or purposes of this system of records. The researcher will be required to maintain Privacy Act safeguards with respect to the disclosed records.

(4) Disclosure for Use by Other Law Enforcement Agencies. The Department may disclose information to any Federal, State, local, or foreign agency, or other public authority responsible for enforcing, investigating, or prosecuting violations of administrative, civil, or criminal law or regulation if that information is relevant to any enforcement, regulatory, investigative, or prosecutorial responsibility within the receiving entity's jurisdiction.

(5) Enforcement Disclosure. In the event that information in this system of records indicates, either on its face or in connection with other information, a violation or potential violation of any applicable statutory, regulatory, or legally binding requirement, the Department may disclose the relevant records to the appropriate agency, whether foreign, Federal, State, Tribal, or local, charged with the responsibility of investigating or prosecuting that violation or charged with enforcing or implementing the statute, Executive order, rule, regulation, or order issued pursuant thereto.

(6) Litigation and Alternative Dispute Resolution (ADR) Disclosure.

(a) Introduction. In the event that one of the parties listed below is involved in litigation or ADR, or has an interest in litigation or ADR, the Department may disclose certain records to the parties described in paragraphs (b), (c), and (d) of this routine use under the conditions specified in those paragraphs:

(i) The Department or any of its components.

(ii) Any Department employee in his or her official capacity.

(iii) Any Department employee in his or her individual capacity if the U.S. Department of Justice (DOJ) has been requested to or has agreed to provide or arrange for representation for the employee.

(iv) Any Department employee in his or her individual capacity where the Department has agreed to represent the employee.

(v) The United States where the Department determines that the litigation is likely to affect the Department or any of its components.

(b) Disclosure to DOJ. If the Department determines that disclosure of certain records to DOJ is relevant and necessary to litigation or ADR, the Department may disclose those records as a routine use to DOJ.

(c) Adjudicative Disclosure. If the Department determines that it is relevant and necessary to the litigation or ADR to disclose certain records to an adjudicative body before which the Department is authorized to appear, to an individual, or to an entity designated by the Department or otherwise empowered to resolve or mediate disputes, the Department may disclose those records as a routine use to the adjudicative body, individual, or entity.

(d) Disclosure to Parties, Counsel, Representatives, or Witnesses. If the Department determines that disclosure of certain records to a party, counsel, representative, or witness is relevant and necessary to the litigation or ADR, the Department may disclose those records as a routine use to the party, counsel, representative, or witness.

(7) Freedom of Information Act (FOIA) and Privacy Act Advice Disclosure. The Department may disclose records to DOJ or the OMB if the Department concludes that disclosure would help in determining whether particular records are required to be disclosed under the FOIA or the Privacy Act.

(8) Congressional Member Disclosure. The Department may disclose the records of an individual to a member of Congress or the member's staff in response to an inquiry from the member made at the written request of that individual. The member's right to the information is no greater than the right of the individual who requested the inquiry.

(9) Disclosure in the Course of Responding to Breach of Data. The Department may disclose records to appropriate agencies, entities, and persons when (a) the Department suspects or confirms that the security or confidentiality of information in the TRIO APR system has been compromised; (b) the Department has determined that as a result of the suspected or confirmed compromise, there is a risk of harm to economic or property interests, identity theft or fraud, or harm to the security or integrity of the TRIO APR system or other systems or programs (whether maintained by the Department or by another agency or entity) that rely upon the compromised information; and (c) the disclosure made to such agencies, entities, and persons is reasonably necessary to assist in connection with the Department's efforts to respond to the suspected or confirmed compromise and to prevent, minimize, or remedy such harm.

DISCLOSURE TO CONSUMER REPORTING AGENCIES:

None.

POLICIES AND PRACTICES FOR STORING, RETRIEVING, ACCESSING, RETAINING, AND DISPOSING OF RECORDS IN THE SYSTEM:

STORAGE:

The Department's data collection contractor, CBMI, annually collects records from grantees via a secure Web site and prepares databases of the records by program. CBMI transfers the data via a secure File Transfer Protocol site to NORC that maintains the system of records and is responsible for analyzing the data. Archival and analysis copies of the databases are maintained on NORC's secure servers and in other electronic storage media. The data are submitted electronically and stored electronically; paper records of the individual student data are not collected.

RETRIEVABILITY:

The records are indexed by the grant number(s) assigned to each project. The following data elements are used for matching participant records with prior year's data and with other data sources: SSN, first and last name, and date of birth. Electronic files on participants can be accessed through these data elements.

SAFEGUARDS:

Access to the records is limited to authorized personnel only. All physical access to the Department's site and to the sites of the Department's contractors where the data is collected and this system of records maintained is controlled and monitored by security personnel who check each individual entering the buildings for his or her employee or visitor badge.

The computer systems employed by the Department and by the Department's contractors offer a high degree of resistance to tampering and circumvention. The data reside in secured facilities on secured servers behind a Department-approved firewall system that continuously monitors for intrusion and unauthorized access. Access to the data is permitted only for contractor staff who support the data collection or data analysis and a small number of Department staff who have a need for the data to perform their responsibilities. Contractor staff have appropriate security clearances and also sign confidentiality and non-disclosure agreements to protect against unauthorized disclosure of confidential information.

RETENTION AND DISPOSAL:

The retention and disposal of records associated with the TRIO APR system is currently unscheduled pending National Archives and Records Administration (NARA) approval of a records retention schedule. Until a NARA-approved records schedule is in effect, no records will be destroyed.

SYSTEM MANAGER(S) AND ADDRESS:

Team Leader, Program Management and Development, Federal TRIO Programs, Office of Postsecondary Education, U.S. Department of Education, 1990 K Street, NW., room 7059, Washington, DC 20006-8510.

NOTIFICATION PROCEDURE:

If you wish to determine whether a record exists regarding you in the system of records, contact the system manager. Your request must meet the requirements of the regulations in 34 CFR 5b.5, including proof of identity.

RECORD ACCESS PROCEDURE:

If you wish to gain access to your record in the system of records, contact the system manager at the address listed under, System Manager and Address. Requests should contain your full name, address, and telephone number. Your request must meet the requirements of the regulations in 34 CFR 5b.5, including proof of identity.

CONTESTING RECORD PROCEDURE:

If you wish to contest the content of a record regarding you in the system of records, contact the system manager. Your request must meet the requirements of the regulations in 34 CFR 5b.7, including proof of identity.

RECORD SOURCE CATEGORIES:

Information maintained in this system of records is obtained from institutions of higher education and non-profit agencies and organizations that are recipient of grants under one or more of the following Federal TRIO programs: Upward Bound (including Upward Bound Math-Science and Veterans Upward Bound), Student Support Services, and Ronald E. McNair Postbaccalaureate Achievement. The system of records will also include information obtained from data matching with the Federal Student Aid Application File and the Recipient Financial Management System.

EXEMPTIONS CLAIMED FOR THIS SYSTEM:

None.

[FR Doc. E9-1261 Filed 1-22-09; 8:45 am]

BILLING CODE 4000-01-P